SMALL BUSINESS ADMINISTRATION

Revocation of License of Small Business Investment Company

Pursuant to the authority granted to the United States Small Business Administration by the Final Order of the United States District Court for the Northern District of Texas, Fort Worth Division, dated October 22, 2007, the United States Small Business Administration hereby revokes the license of SBIC Partners II, L.P., a Delaware Limited Partnership, to function as a small business investment company under the Small Business Investment Company License No. 06/76-0316 issued to SBIC Partners II, L.P. on June 16, 1998 and said license is hereby declared null and void as of July 28, 2010.

U.S. Small Business Administration.
Sean J. Greene,
Associate Administrator for Investment.

[FR Doc. 2010-31153 Filed 12-10-10; 8:45 am]

BILLING CODE 8025-01-P